DEPARTMENT OF THE TREASURY

Alcohol and Tobacco Tax and Trade Bureau

27 CFR Part 9

[T.D. TTB-27; Notice No. 21]

RIN 1513-AA58

Establishment of the Ribbon Ridge Viticultural Area (2002R-215P)

AGENCY: Alcohol and Tobacco Tax and Trade Bureau (TTB), Treasury.

ACTION: Final rule; Treasury decision.

SUMMARY: This Treasury decision establishes the Ribbon Ridge viticultural area in northern Yamhill County, Oregon. The new Ribbon Ridge viticultural area is entirely within the existing Willamette Valley viticultural area. We designate viticultural areas to allow vintners to better describe the origin of their wines and to allow consumers to better identify wines they may purchase.

DATES: Effective Date: July 1, 2005.

FOR FURTHER INFORMATION CONTACT: N. A. Sutton, Regulations and Procedures Division, Alcohol and Tobacco Tax and Trade Bureau, 925 Lakeville St., # 158, Petaluma, CA 94952; telephone 415-271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on such labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Ribbon Ridge Petition

The North Willamette Valley AVA Group petitioned TTB for the establishment of the “Ribbon Ridge” viticultural area in northern Yamhill County, Oregon. The 3,350-acre viticultural area is about 4 miles northwest of Dundee, 22 miles southwest of Portland, and 40 miles inland from the Pacific Ocean. The Ribbon Ridge viticultural area lies within the larger, established Willamette Valley viticultural area (27 CFR 9.90). As of 2002, the petitioned-for area contained 3 commercial wineries and 14 vineyards covering about 286 acres.

Geographically, Ribbon Ridge is a distinct, 3.5 mile long by 1.75-mile wide ridge separated from the surrounding mountains and hills on all sides by creek valleys. According to the petition, the geographic isolation of Ribbon Ridge, its soils, and, to a lesser extent, its climate distinguish it from surrounding Willamette Valley grape-growing regions. Evidence supporting establishment of the Ribbon Ridge viticultural area is described below.

Name Evidence

Colby Carter, an early settler from Missouri, named Ribbon Ridge in 1865, and the ridge has been known by that name ever since. The first official use of the Ribbon Ridge name dates to 1888 with the creation of Ribbon Ridge School District No. 68. Built along Ribbon Ridge Road, which runs along the ridge's spine, the school operated from 1889 to about 1953. A reference to Ribbon Ridge also appears in the “Oregon Historical Quarterly,” vol. XLIV, page 307, March-December 1943. It reads, “Ribbon Ridge is a spur in the southwest part of the Chehalem Mountains, about east of Yamhill. The top of the ridge twists like a ribbon, hence the name.”

The USGS Dundee Quadrangle map and other commercial maps show “Ribbon Ridge” as the name of the ridge encompassed by the Ribbon Ridge viticultural area. The Dundee Quadrangle map also shows Ribbon Ridge Road running north and south along the spine of the ridge. In addition, a search of the U.S. Geological Survey's Geonames database (see http://geonames.usgs.gov/) shows “Ribbon Ridge” to be the name of the ridge encompassed by the viticultural area's boundary. This search also shows the site of the historic Ribbon Ridge School to be within the viticultural area's boundary.

Boundary Evidence

Ribbon Ridge is geographically distinct from the surrounding hills and mountains due to its topographic isolation. Creek valleys surround Ribbon Ridge on all sides, giving the ridge an “island-like” appearance as it rises above the Chehalem Valley floor, according to the petition. Two creeks, Ayres Creek in the north and Dopp Creek in the east, separate Ribbon Ridge from the Chehalem Mountains. Chehalem Creek separates Ribbon Ridge from the Coast Range to the west and from the Dundee Hills to the south.

A 10-mile long loop of county roads also surrounds Ribbon Ridge at or near its base. Beginning at the ridge's northern end, this loop follows Dopp Road south along the ridge's eastern side, and then follows North Valley Road along its southern and western sides, and after traveling east a short distance on Albertson Road, the loop is closed along the ridge's northern side. Since these roads largely follow the base of Ribbon Ridge, the petitioners used these roads to help delineate the proposed viticultural area.

Local residents also view Ribbon Ridge as a distinct farming district, with its own mix of crops, separate from the adjoining Chehalem Valley, Kings Grade, and Rex Hills regions, according to the petition. Winegrowing activity began on Ribbon Ridge in 1980, with the planting of Ridgecrest Vineyards. The first commercial vineyard was established in 1982, with the planting of 54 acres of Pinot Noir and Chardonnay. Yamhill Valley Vineyards first used grapes from these vineyards in wine production in 1985. Vineyards and winery operations now own in excess of 700 total acres on Ribbon Ridge. Approximately 1,000 to 1,400 acres are suited for premium wine grape planting within the Ribbon Ridge viticultural area boundaries, the petition states.

Distinguishing Features

Geography

As noted above, creek valleys separate Ribbon Ridge from the higher, surrounding landmasses. The “island” of Ribbon Ridge, which extends southward from the Chehalem Mountains, rises to a maximum height of 683 feet from the 200-foot Chehalem Valley floor. Ayres Creek, which flows west then north, and Dopp Creek, which flows south, separate Ribbon Ridge from the Chehalem Mountains along, respectively, the ridge's north and east sides. On the western side of Ribbon Ridge, the Chehalem Creek valley separates the ridge from the Coast Range hillsides associated with the Yamhill-Carlton District viticultural area (27 CFR 9.183). After a gorge-like drop of 300 feet into the quarter-mile wide ravine of Chehalem Creek, the creek's valley widens at the southern foot of Ribbon Ridge into the broad, flat Chehalem Valley, separating the Chehalem Mountains and Ribbon Ridge from the Dundee Hills to the south.

Soils

Ribbon Ridge is a distinct geological formation of eastward-tilted, marine sedimentary strata that dates to the upper Eocene geological era and is unusual in having only two geological strata—the Keasey and Pittsburgh Bluff Formations. The ridge is ancient and stable, and the soils formed from the fine sedimentary parent materials are well weathered. Consequently the Ribbon Ridge viticultural area's soils are, on the average, deeper in profile and more finely structured than soils in surrounding areas. The soils of Ribbon Ridge are relatively uniform, all being formed of fine-textured marine sediment (mainly Willakenzie series) at vineyard elevations, and neither slides nor erosion have significantly altered them.

The soils found within the Ribbon Ridge viticultural area differ from the alluvial sedimentary soils found the Chehalem Valley flood plain, and the area's soils also differ from the adjacent volcanic soils of the Chehalem Mountains and Dundee Hills. Finally, the Ribbon Ridge soils are related to, but have significant differences from, the marine sedimentary hillsides (mainly Willakenzie and Peavine series) to the west of the Chehalem Creek valley in the Yamhill-Carlton District viticultural area (27 CFR 9.183) in that they are younger, finer, and more uniform, due to finer parent materials of sandstone, siltstone, and mudstone.

Climate

Ribbon Ridge's “island-like” topography and the proximity of the surrounding, higher landmasses tend to shield and protect the proposed Ribbon Ridge viticultural area from many of the extremes that affect the other agricultural microclimates in the northern Willamette Valley. Low clouds tend to accumulate on the hilltops surrounding Ribbon Ridge, and fog settles on the valley floor in the early and late parts of the growing season. To the west, the Coast Range and Yamhill Mountains encourage weather systems to drop their moisture before reaching Ribbon Ridge and serve to block the severe winds of Pacific storms. To the north, the Chehalem Mountains, Bald Peak, and Portland Hill tend to protect the Ribbon Ridge viticultural area from Columbia Gorge and eastern Oregon weather systems, which deliver cold temperatures in the winter and heat or winds in the summer. To the south, the Dundee Hills shield Ribbon Ridge from the extreme winds that funnel coastal weather systems through the Van Duzer corridor, whether hot, cold, or wet in the summer or winter.

Ribbon Ridge's grape-growing hillsides are slightly warmer and drier when compared to valley floor sites within the northern Willamette Valley. These climatic differences are especially significant during the April to October grape-growing season. During that time, hillside warming is especially important in achieving grape ripening similar to that found at warm valley sites, but without the risk of frost or excess soil moisture. The ridge's hillsides have higher minimum (2-3° F) and maximum (2-7° F) daily temperatures during the early and late portions of the growing season than do exposed valley floor sites. These moderate temperatures permit early growth in the spring, consistent and even ripening—with retention of acids—over the summer, and a long, full maturing season in the fall.

Ribbon Ridge's annual rainfall is less than that of other wine growing regions in the northern Willamette Valley. Annual precipitation on the protected hillsides of the Ribbon Ridge viticultural area is up to 10 inches (approximately 25 percent) less than that of nearby unprotected valley floor sites. Growing season precipitation within the Ribbon Ridge area is reduced even further, with 7.7 inches accumulating April through October, on average. This is approximately 35 percent less than the amount received at Coast Range and valley floor sites. Rainfall in the Ribbon Ridge area is also less than that of the nearby Yamhill-Carlton District (27 CFR 9.183) and Dundee Hills (27 CFR 9.180) viticultural areas.

Boundary Description

As proposed, the boundary of the Ribbon Ridge viticultural area followed a 9.85-mile loop of county roads around the base of the ridge, but the proposed regulatory text limited the viticultural area to land at or above 240 feet in elevation within that loop. Since the road loop largely follows the 200- to 240-foot base of Ribbon Ridge, we have revised the regulatory text to eliminate the 240-foot elevation restriction, slightly expanding the size of the viticultural area. The area now includes land below 240 feet along the western side of Dopp Road and a small area around the Lake View School south of Albertson Road. In addition, we have also revised the wording of the boundary description in the regulatory text for clarity, and we have revised the beginning point from the intersection of the 240-foot contour line and North Valley Road to the intersection of Albertson and Dopp Roads. For a complete description of the viticultural area's boundary, see the regulatory text published at the end of this notice.

Maps

The petitioner(s) provided the required maps, and we list them below in the regulatory text.

Notice of Proposed Rulemaking

TTB published a notice of proposed rulemaking, Notice No. 21, in the Federal Register on November 3, 2003 (68 FR 62259), regarding the establishment of the Ribbon Ridge viticultural area. In that notice, TTB requested comments by January 2, 2004, from anyone interested. We received one supporting comment and no opposing comments.

After careful review, TTB finds that the evidence submitted with the petition supports the establishment of the proposed viticultural area. Therefore, under the authority of the Federal Alcohol Administration Act and part 4 of our regulations, we establish the “Ribbon Ridge” viticultural area in Yamhill County, Oregon, effective 60-days from this document's publication date.

Impact on Current Wine Labels

Part 4 of the TTB regulations prohibits any label reference on a wine that indicates or implies an origin other than the wine's true place of origin. With the establishment of this viticultural area and its inclusion in part 9 of the TTB regulations, its name, “Ribbon Ridge,” is recognized as a name of viticultural significance. Consequently, wine bottlers using “Ribbon Ridge” in a brand name, including a trademark, or in another label reference as to the origin of the wine, must ensure that the product is eligible to use the viticultural area's name as an appellation of origin.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label.

Different rules apply if a wine has a brand name containing a viticultural area name that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866 (58 FR 51735). Therefore, it requires no regulatory assessment.

Drafting Information

N. A. Sutton of the Regulations and Procedures Division drafted this document.

List of Subjects in 27 CFR Part 9

Wine.

The Regulatory Amendment

For the reasons discussed in the preamble, we amend 27 CFR, chapter 1, part 9 as follows:

PART 9—AMERICAN VITICULTURAL AREAS

1. The authority citation for part 9 continues to read as follows:

Authority: 27 U.S.C. 205.

Subpart C—Approved American Viticultural Areas

2. Amend subpart C by adding § 9.182 to read as follows:

§ 9.182 Ribbon Ridge.

(a) Name. The name of the viticultural area described in this section is “Ribbon Ridge.”

(b) Approved Maps. The appropriate maps used to determine the boundaries of the Ribbon Ridge viticultural area are the following two United States Geological Survey (USGS), 1:24,000 scale, topographical maps (7.5 minute series).

(1) Laurelwood Quadrangle, Oregon, 1956, photorevised 1978; and

(2) Dundee Quadrangle, Oregon, 1956, revised 1993.

(c) Boundary. The Ribbon Ridge viticultural area is located in northern Yamhill County, Oregon, northwest of the town of Dundee.

(1) The beginning point is on the Laurelwood Quadrangle map at the intersection of a light-duty road known locally as Albertson Road and Dopp Road (named on the Dundee map), just east of the Lake View School, section 58, T2S, R3W. From the beginning point, the boundary line—

(2) Continues south on Dopp Road for about 4.9 miles, crossing onto the Dundee map, to the road's intersection with North Valley Road, near the Erwin Young School, section 39, T3S, R3W (Dundee Quadrangle); then

(3) Continues west then north on North Valley Road for about 5 miles, crossing over to the Laurelwood map, to the road's intersection with Laughlin and Albertson Roads, just west of the Lake View School, section 58, T2S, R3W (Laurelwood Quadrangle); then

(4) Continues east on Albertson Road for about 0.2 miles and returns to the beginning point.

Signed: April 21, 2005.
John J. Manfreda,
Administrator.
Approved: May 11, 2005.
Timothy E. Skud,
Deputy Assistant Secretary (Tax, Trade, and Tariff Policy).

[FR Doc. 05-10881 Filed 5-31-05; 8:45 am]

BILLING CODE 4810-31-P